NATIONAL SCIENCE FOUNDATION

Proposal Review Panel for Physics; Notice of Meeting

In accordance with the Federal Advisory Committee Act (Pub. L. 92-463, as amended), the National Science Foundation announces the following meeting:

Name: NSF Site Visit Review of the National Superconducting Cyclotron Laboratory, #1208

Date and Time: June 16, 2013—8:00 a.m. to 6:00 p.m., June 17, 2013—8:00 a.m. to 1:00 p.m.

Place: Michigan State University; East Lansing, MI.

Type of Meeting: Part-Open.

Contact Person: Dr. Gail Dodge, Program Director for Nuclear Physics; National Science Foundation, 4201 Wilson Blvd., Arlington, VA 22230. Telephone: (703) 292-8958.

Purpose of Meeting: Annual Site Visit as per the terms of the Laboratory's Five-year Cooperative Agreement.

Agenda

June 16, 2014

8:00 a.m.-10:15 a.m. Closed—Executive Session, Laboratory, Operations, Upgrades and Commissioning Overview

10:15 a.m.—11:15 a.m. Open—Accelerator Physics Research, and Research, Education and Mentoring Overview

11:15 a.m.—11:45 a.m. Closed—Executive Session

12:00 p.m.—12:45 p.m. Open—Meet with President and Provost

12:45 p.m.—1:00 p.m. Closed—Executive Session

1:00 p.m.—3:00 p.m. Open—ReA3, Astrophysics, GRETINA, MoNA Decay Studies, BECOLA, and LEBIT

3:00 p.m.—3:40 p.m. Open—Meet with Students and Postdocs

3:40 p.m.—5:00 p.m. Open—Tour

5:00 p.m.—6:15 p.m. Closed—Executive Session

June 17, 2013

8:30 a.m.—1:00 p.m. Closed—Executive Session and Report Writing

Reason for Closing: The work being reviewed includes information of a proprietary or confidential nature, including technical information; financial data, such as salaries; and personal information concerning individuals associated with the proposals. These matters are exempt under 5 U.S.C. 552b(c), (4) and (6) of the Government in the Sunshine Act.

Dated: May 8, 2014.
Suzanne Plimpton,
Acting, Committee Management Officer.

[FR Doc. 2014-10941 Filed 5-12-14; 8:45 am]

BILLING CODE 7555-01-P